DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Alabama: Lee (FEMA Docket No.: B-1821) | City of Auburn (17-04-7132P) | The Honorable Bill Ham, Jr., Mayor, City of Auburn, 144 Tichenor Avenue, Suite 1, Auburn, AL 36830 | City Hall, 144 Tichenor Avenue, Suite 1, Auburn, AL 36830 | Jul. 2. 2018 | 010144
Colorado: Boulder (FEMA Docket No.: B-1821) | City of Louisville (18-08-0269X) | The Honorable Bob Muckle, Mayor, City of Louisville, 749 Main Street, Louisville, CO 80027 | City Hall, 749 Main Street, Louisville, CO 80027 | Jul. 5, 2018 | 085076
Florida:
Charlotte (FEMA Docket No.: B-1821) | City of Punta Gorda (18-04-1510P) | The Honorable Rachel Keesling, Mayor, City of Punta Gorda, 326 West Marion Avenue, Punta Gorda, FL 33950 | City Hall, 326 West Marion Avenue, Punta Gorda, FL 33950 | Jun. 29, 2018 | 120062
Collier (FEMA Docket No.: B-1821) | Unincorporated areas of Collier County (18-04-1140P) | The Honorable Andy Solis, Chairman, Collier County Board of Commissioners, 3299 Tamiami Trail East, Suite 303, Naples, FL 34112 | Collier County Growth Management Department, 2800 North Horseshoe Drive, Naples, FL 34104 | Jul. 5, 2018 | 120067
Collier (FEMA Docket No.: B-1821) | Unincorporated areas of Collier County (18-04-1791P) | The Honorable Andy Solis, Chairman, Collier County Board of Commissioners, 3299 Tamiami Trail East, Suite 303, Naples, FL 34112 | Collier County Growth Management Department, 2800 North Horseshoe Drive, Naples, FL 34104 | Jul. 9, 2018 | 120067
Monroe (FEMA Docket No.: B-1821) | City of Key West (18-04-1325P) | The Honorable Craig Cates, Mayor, City of Key West, P.O. Box 1409, Key West, FL 33041 | Building Department, 1300 White Street, Key West, FL 33040 | Jul. 5, 2018 | 120168
Monroe (FEMA Docket No.: B-1821) | Village of Islamorada (18-04-1512P) | The Honorable Chris Sante, Mayor, Village of Islamorada, 86800 Overseas Highway, Islamorada, FL 33036 | Planning and Development Department, 86800 Overseas Highway, Islamorada, FL 33036 | Jul. 5, 2018 | 120424
Palm Beach (FEMA Docket No.: B-1821) | Village of Tequesta (18-04-1101P) | The Honorable Abby Brennan, Mayor, Village of Tequesta, 345 Tequesta Drive, Tequesta, FL 33469 | Building Department, 345 Tequesta Drive, Tequesta, FL 33469 | Jul. 2, 2018 | 120228
Pinellas (FEMA Docket No.: B-1821) | City of Clearwater (18-04-0067P) | The Honorable George N. Cretekos, Mayor, City of Clearwater, P.O. Box 4748, Clearwater, FL 33758 | Engineering Department, 100 South Myrtle Avenue, Suite 220, Clearwater, FL 33758 | Jul. 2, 2018 | 125096
New Hampshire: Hillsborough (FEMA Docket No.: B-1821) | City of Manchester (17-01-0477P) | The Honorable Theodore L. Gatsas, Mayor, City of Manchester, 1 City Hall Plaza, Manchester, NH 03101 | Planning and Community Development Department, 1 City Hall Plaza, Manchester, NH 03101 | Jun. 28, 2018 | 330169
Nevada: Clark (FEMA Docket No.: B-1821) | Unincorporated areas of Clark County (17-09-2685P) | The Honorable Steve Sisolak, Chairman, Clark County Board of Commissioners, 500 South Grand Central Parkway, Las Vegas, NV 89155 | Clark County Department of Public Works, 500 South Grand Central Parkway, Las Vegas, NV 89155 | Jun. 29, 2018 | 320003
North Carolina:
Mecklenburg (FEMA Docket No.: B-1829) | City of Charlotte (17-04-6164P) | The Honorable Vi Lyles, Mayor, City of Charlotte, 600 East 4th Street, Charlotte, NC 28202 | Charlotte-Mecklenburg Storm Water Services Department, 700 North Tryon Street, Charlotte, NC 28202 | Jun. 30, 2018 | 370159
Wake (FEMA Docket No.: B-1829) | Town of Apex (17-04-7005P) | The Honorable Lance Olive, Mayor, Town of Apex, P.O. Box 250, Apex, NC 27502 | Engineering Department, 73 Hunter Street, Apex, NC 27502 | Jul. 14, 2018 | 370467
Pennsylvania: Dauphin (FEMA Docket No.: B-1821) | Township of Derry (17-03-2539P) | The Honorable Marc A. Moyer, Chairman, Township of Derry Board of Supervisors, 600 Clearwater Road, Hershey, PA 17033 | Community Development Department, 600 Clearwater Road, Hershey, PA 17033 | Jul. 6, 2018 | 420376
South Carolina:
Berkley (FEMA Docket No.: B-1821) | Unincorporated areas of Berkley County (18-04-1462P) | The Honorable William W. Peagler, III, Berkley County Supervisor, P.O. Box 6122, Moncks Corner, SC 29461 | Berkeley County Planning and Zoning Department, 1003 Highway 52, Moncks Corner, SC 29461 | Jul. 5, 2018 | 450029
York (FEMA Docket No.: B-1821) | Town of Fort Mill (18-04-0146P) | The Honorable Guynn Savage, Mayor, Town of Fort Mill, P.O. Box 159, Fort Mill, SC 29716 | Town Hall, 200 Tom Hall Street, Fort Mill, SC 29715 | Jun. 27, 2018 | 450195
York (FEMA Docket No.: B-1821) | Unincorporated areas of York County (18-04-0146P) | The Honorable Britt Blackwell, Chairman, York County Council, P.O. Box 66, Rock Hill, SC 29745 | York County Planning and Development Department, 1070 Heckle Boulevard, Suite 107, Rock Hill, SC 29732 | Jun. 27, 2018 | 450193
South Dakota: Pennington (FEMA Docket No.: B-1821) | City of Rapid City (17-08-1343P) | The Honorable Steve Allender, Mayor, City of Rapid City, 300 6th Street, Rapid City, SD 57701 | Public Works Department, Engineering Services Division, 300 6th Street, Rapid City, SD 57701 | Jun. 29, 2018 | 465420
Texas:
Bexar (FEMA Docket No.: B-1821) | City of Balcones Heights (17-06-0549P) | The Honorable Suzanne de Leon, Mayor, City of Balcones Heights, 3300 Hillcrest Drive, Balcones Heights, TX 78201 | Community Development Department, 3300 Hillcrest Drive, Balcones Heights, TX 78201 | Jul. 2, 2018 | 481094
Bexar (FEMA Docket No.: B-1821) | City of Kirby (17-06-3964P) | The Honorable Lisa B. Pierce, Mayor, City of Kirby, 112 Bauman Street, Kirby, TX 78219 | City Hall, 112 Bauman Street, Kirby, TX 78219 | Jun. 28, 2018 | 480041
Bexar (FEMA Docket No.: B-1821) | City of Leon Valley (17-06-2511P) | The Honorable Chris Riley, Mayor, City of Leon Valley, 6400 El Verde Road, Leon Valley, TX 78238 | Community Development Department, 6400 El Verde Road, Leon Valley, TX 78238 | Jul. 2, 2018 | 480042
Bexar (FEMA Docket No.: B-1821) | City of Leon Valley (17-06-2527P) | The Honorable Chris Riley, Mayor, City of Leon Valley, 6400 El Verde Road, Leon Valley, TX 78238 | Community Development Department, 6400 El Verde Road, Leon Valley, TX 78238 | Jul. 2, 2018 | 480042
Bexar (FEMA Docket No.: B-1821) | City of San Antonio (17-06-0549P) | The Honorable Ron Nirenberg, Mayor, City of San Antonio, P.O. Box 839966, San Antonio, TX 78283 | Transportation and Capital Improvements Department, Storm Water Division, 1901 South Alamo Street, 2nd Floor, San Antonio, TX 78204 | Jul. 2, 2018 | 480045
Bexar (FEMA Docket No.: B-1821) | City of San Antonio (17-06-2972P) | The Honorable Ron Nirenberg, Mayor, City of San Antonio, P.O. Box 839966, San Antonio, TX 78283 | Transportation and Capital Improvements Department, Storm Water Division, 1901 South Alamo Street, 2nd Floor, San Antonio, TX 78204 | Jul. 2, 2018 | 480045
Brazoria (FEMA Docket No.: B-1821) | City of Manvel (17-06-3110P) | The Honorable Debra Davison, Mayor, City of Manvel, 20025 Highway 6, Manvel, TX 77578 | City Hall, 20025 Highway 6, Manvel, TX 77578 | Jun. 29, 2018 | 480076
Brazoria (FEMA Docket No.: B-1821) | City of Pearland (17-06-3110P) | Mr. Clay Pearson, Manager, City of Pearland, 3519 Liberty Drive, Pearland, TX 77581 | City Hall, 3519 Liberty Drive, Pearland, TX 77581 | Jun. 29, 2018 | 480076
Brazoria (FEMA Docket No.: B-1821) | Unincorporated areas of Brazoria County (17-06-3110P) | The Honorable L.M. “Matt” Sebesta, Jr., Brazoria County Judge, 111 East Locust Street, Suite 102A, Angleton, TX 77515 | Brazoria County West Annex, 451 North Velasco, Suite 210, Angleton, TX 77515 | Jun. 29, 2018 | 485458
Lamar (FEMA Docket No.: B-1821) | City of Paris (17-06-3047P) | The Honorable Steve Clifford, Mayor, City of Paris, P.O. Box 9037, Paris, TX 75460 | Engineering, Planning and Development Department, 150 Southeast 1st Street, Paris, TX 75460 | Jul 3, 2018 | 480427
Tarrant (FEMA Docket No.: B-1821) | City of Arlington (17-06-3146P) | The Honorable W. Jeff Williams, Mayor, City of Arlington, P.O. Box 90231, Arlington, TX 76010 | City Hall, 101 West Abram Street, Arlington, TX 76010 | Jun. 29, 2018 | 485454
Tarrant (FEMA Docket No.: B-1821) | City of Grand Prairie (17-06-3146P) | The Honorable Ron Jensen, Mayor, City of Grand Prairie, P.O. Box 534045, Grand Prairie, TX 75053 | City Hall, 206 West Church Street, Grand Prairie, TX 75050 | Jun. 29, 2018 | 485472
Williamson (FEMA Docket No.: B-1821) | City of Taylor (17-06-2515P) | The Honorable Brandt Rydell, Mayor, City of Taylor, 400 Porter Street, Taylor, TX 76574 | Department of Public Works, 400 Porter Street, Taylor, TX 76574 | Jun. 29, 2018 | 480670
Utah: Washington (FEMA Docket No.: B-1821) | City of Washington (17-08-1258P) | The Honorable Ken Neilson, Mayor, City of Washington, 111 North 100 East, Washington, UT 84780 | Public Works Department, 1305 East Washington Dam Road, Washington, UT 84780 | Jul. 9, 2018 | 490182
Virginia:
Loudoun (FEMA Docket No.: B-1821) | Town of Leesburg (18-03-0635P) | The Honorable Kelly Burk, Mayor, Town of Leesburg, 25 West Market Street, Leesburg, VA 20176 | Department of Plan Review, 25 West Market Street, Leesburg, VA 20176 | Jul. 6, 2018 | 510091
Prince William (FEMA Docket No.: B-1821) | Unincorporated areas of Prince William County (17-03-1826P) | Mr. Christopher E. Martino, Executive, Prince William County, 1 County Complex Court, Prince William, VA 22192 | Prince William County Department of Public Works, 5 County Complex Court, Prince William, VA 22192 | Jun. 28, 2018 | 510119

[FR Doc. 2018-18831 Filed 8-29-18; 8:45 am]

BILLING CODE 9110-12-P